DEPARTMENT OF STATE

[Public Notice: 10827]

Updating the State Department's List of Entities and Subentities Associated With Cuba (Cuba Restricted List)

Correction

In notice document 2019-15929 appearing on pages 36154-36156 in the issue of Friday, July 26, 2019, make the following corrections:

1. On page 36156 in the first column, lines one and two, “Casa Editorial Verde Olivo Effective July 26, 2019” should not have been indented when published.

2. On page 36156 in the first column, lines 26 and 27 “Editorial Capitán San Luis Effective July 26, 2019” should have printed on its own a separate line.

3. On page 36156 in the first column, line 37, “Ferretería TRASVAL” should have printed on its own a separate line.

4. On page 36156 in the first column, lines 39 and 40, “Impresos de Seguridad” should have printed on its own a separate line.

[FR Doc. C1-2019-15929 Filed 8-26-19; 8:45 am]

BILLING CODE 1301-00-D